BROADCASTING BOARD OF GOVERNORS

Submission for OMB Review; Comment Request

AGENCY: The Broadcasting Board of Governors.

ACTION: Submission for OMB review; comment request.

SUMMARY: Under the provisions of the Paperwork Reduction Act of 1995 [Public Law 104-13; 44 U.S.C. Chapter 3506(c)(2)(A)], this notice announces that the information collection activity titled, “Surveys and Other Audience Research for Radio and TV Marti” has been forwarded to the Office of Management and Budget (OMB) for review and comment. The Broadcasting Board of Governors (BBG) is requesting reinstatement of this collection for a three-year period and approval of a revision to the burden hours.

The information collection activity involved with this program is conducted pursuant to the mandate given to the BBG (formerly the United States Information Agency) in accordance with Pub. L. 98-111, the Radio Broadcasting to Cuba Act, dated, October 4, 1983, to provide for the broadcasting of accurate information to the people of Cuba and for other purposes. This act was amended by Pub. L. 101-246, dated February 16, 1990, which established the authority for TV Marti.

DATES: Comments must be submitted on or before November 15, 2006.

FOR FURTHER INFORMATION CONTACT: Ms. Jeannette Mancus, the BBG Clearance Officer, BBG, M/AA, Room 1657, 330 Independence Avenue, SW., Washington, DC 20237, telephone (202) 203-4664, e-mail address jgmancus@IBB.GOV; or Mr. Alex Hunt, the OMB Desk Officer for BBG, via fax at 202-395-7285 or by e-mail at: Alexander_T._Hunt@omb.eop.gov.

COPIES: Copies of the proposed collection submitted to OMB for approval may be obtained from the BBG Clearance Officer or the OMB Desk Officer for BBG.

SUPPLEMENTARY INFORMATION: An Agency may not conduct or sponsor, and a person is not required to respond to a collection of information unless it displays a currently valid OMB control number. The Federal Register Notice with a 60-day comment period soliciting comments on this collection of information was published on August 3, 2006, Volume 71, Number 149, Page 44014.

Public reporting burden for this proposed collection of information is estimated to average 30 minutes (.50 of an hour) per response for field survey respondents (400), and 240 minutes (4 hours) for Focus Group Study respondents (48), including the time for reviewing instructions, searching existing data sources, gathering and maintaining the data needed, and completing and reviewing the collection of information. Responses are voluntary and respondents will be required to respond only one time. Comments are requested on the proposed information collection concerning:

(a) Whether the proposed collection of information is necessary for the proper performance of the agency, including whether the information has practical utility;

(b) The accuracy of the Agency's burden estimates;

(c) Ways to enhance the quality, utility, and clarity of the information collected; and

(d) Ways to minimize the burden of the collection of information on the respondents, including the use of automated collection techniques or other forms of information technology.

Send comments regarding this burden estimate or any other aspect of this collection of information to Ms. Jeannette Mancus, the BBG Clearance Officer, BBG, M/AA, Room 1657, 330 Independence Avenue, SW., Washington, DC 20237, telephone (202) 203-4664, e-mail address jgmancus@ibb.gov; or to Mr. Alex Hunt, the OMB Desk Officer for BBG, via fax at 202-395-7285 or by e-mail at: Alexander_T._Hunt@omb.eop.gov.

Current Actions: BBG is requesting reinstatement of this collection for a three-year period and approval for a revision to the burden hours.

Title: Interviews and Other Audience Research for Radio and TV Marti.

Abstract: Data from this information collection are used by BBG's Office of Cuba Broadcasting (OCB) in fulfillment of its mandate to evaluate effectiveness of Radio and TV Marti operations by estimating the audience size and composition for broadcasts; and assess signal reception, credibility and relevance of programming through this research.

Proposed Frequency of Responses:

No. of Respondents: 400 Field Study + 48 Group Study = 448.

Recordkeeping Hours: .50 Field Study + 4 Group Study = (200) + (192) =

Total Annual Burden: 392.

Dated: October 4, 2006.
Carol F. Baker,
Director of Administration.

[FR Doc. E6-17136 Filed 10-13-06; 8:45 am]

BILLING CODE 8610-01-P